NUCLEAR REGULATORY COMMISSION

10 CFR Part 2

[Docket No. PRM-2-12]

Michael Stein; Withdrawal of Petition for Rulemaking

AGENCY: Nuclear Regulatory Commission.

ACTION: Petition for rulemaking; withdrawal.

SUMMARY: The Nuclear Regulatory Commission (NRC) is withdrawing, at the petitioner's request, a petition for rulemaking (PRM-2-12) (64 FR 59669; November 3, 1999) filed by Michael Stein. In PRM-2-12, the petitioner requested that the Commission amend its regulations pertaining to deliberate misconduct and employee protection to ensure that all individuals are afforded the right to respond to an NRC determination that the individual has violated these regulations.

ADDRESSES: A copy of the petitioner's email submittal, dated May 15, 2001, requesting the withdrawal of the petition is available for public inspection, or copying for a fee, at the NRC's Public Document Room, One White Flint North, 11555 Rockville Pike (first floor), Rockville, Maryland.

Single copies of the petitioner's email submission may be obtained free of charge by writing to the Division of Administrative Services, Office of Administration, U.S. Nuclear Regulatory Commission, Washington, DC 20555.

Documents created or received at the NRC after November 1, 1999, are also available electronically at the NRC's Public Electronic Reading Room on the Internet at http://www.nrc.gov/NRC/ADAMS/index.html. For the petitioner's email, the accession number is ML011360325. From this site, the public can gain entry into the NRC's Agency wide Document Access and Management System (ADAMS) that provides text and image files of NRC's public documents. For more information, contact the NRC Public Document Room (PDR) Reference staff at 1-800-397-4209, (301) 415-4737, or by email to pdr@nrc.gov.

FOR FURTHER INFORMATION CONTACT: Michael T. Lesar, Chief, Rules and Directives Branch, Division of Administrative Services, Office of Administration, U.S. Nuclear Regulatory Commission, Washington, DC 20555, Telephone: 301-415-7163 or Toll Free: 800-368-5642.

Dated at Rockville, Maryland this 25th day of May, 2001.
For the Nuclear Regulatory Commission.
Andrew L. Bates,
Acting, Secretary of the Commission.

[FR Doc. 01-13739 Filed 5-31-01; 8:45 am]

BILLING CODE 7590-01-P